CORPORATION FOR NATIONAL AND COMMUNITY SERVICE

Information Collection; Submission for OMB Review; Comment Request

AGENCY: Corporation for National and Community Service.

ACTION: Notice.

The Corporation for National and Community Service (hereinafter the “Corporation”), has submitted the following public information collection requests (ICRs) to the Office of Management and Budget for review and approval in accordance with the Paperwork Reduction Act of 1995 (Pub. L. 104-13. (44 U.S.C. Chapter 35)). Copies of these individual ICRs, with applicable supporting documentation, may be obtained by calling the Corporation for National and Community Service, Office of Evaluation, Chuck Helfer, (202) 606-5000, extension 248. Individuals who use a telecommunications device for the deaf (TTY/TDD) may call (202) 606-5256 between the hours of 9:00 a.m. and 4:30 p.m. Eastern time, Monday through Friday.

Comments should be sent to the Office of Information and Regulatory Affairs, Attn: Mr. Danny Werfel, OMB Desk Officer for the Corporation for National and Community Service, Office of Management and Budget, Room 10235, Washington, D.C. 20503, (202) 395-7326, within 30 days of this publication in the Federal Register.

The OMB is particularly interested in comments which:

• Evaluate whether the proposed collection of information is necessary for the proper performance of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g., permitting electronic submissions of responses.

Type of Review: New.

Agency: Corporation for National and Community Service.

Title: The AmeriCorps*National Civilian Community Corps (NCCC) Community Impact Evaluation.

OMB Number: None.

Agency Number: None.

Affected Public: Volunteer coordinators or similar staff at non-profit organizations or agencies that sponsor AmeriCorps*NCCC projects; volunteer coordinators or similar staff at non-profit organizations or agencies that benefit from AmeriCorps*NCCC projects.

Total Respondents: Approximately 108 volunteer coordinators or similar staff in sponsoring organizations; approximately 160 volunteer coordinators or similar staff in benefiting organizations.

Frequency: Two waves for staff in sponsoring organizations; one for staff at benefiting organizations.

Average Time Per Response: Staff at sponsoring organizations—40 minutes (first wave), 60 minutes (second wave); Staff at benefiting organizations—20 minutes.

Estimated Total Burden Hours: 229 hours.

Total Burden Cost (capital/startup): None.

Total Burden Cost (operating/maintenance): None.

Description

The Corporation seeks approval of three survey forms for the evaluation of the community impacts of the Corporation's AmeriCorps*NCCC program. It will allow for the assessment of the impact of the AmeriCorps*NCCC projects on direct beneficiaries, agency and organizational sponsors, and the larger communities they serve. It will also help the Corporation to determine effective planning, initiation, and implementation practices for enhancing AmeriCorps*NCCC projects' impacts on communities.

Data obtained from the surveys, in combination with documentation available from AmeriCorps*NCCC program managers, will provide three complementary options for estimating impacts. These include (1) describing impacts on a program-by-program basis in the terms and measures used by sponsors in relation to the “no-treatment” expectation, (2) examining reported actual impacts in relation to predicted ones, and (3) calculating the monetary benefit of some programs' impacts. These impacts can be related to the structural and implementation characteristics of the projects.

There has been one change since the publication of the 60 day notice (Federal Register: October 15, 1999 (Volume 64, Number 199), Pages 55905-55907). An intensive interview protocol for use in assessing implementation at a small number of project sites has been eliminated.

Dated: February 10, 2000.
Thomasenia P. Duncan,
General Counsel.

[FR Doc. 00-3630 Filed 2-15-00; 8:45 am]

BILLING CODE 6050-28-P